DEPARTMENT OF COMMERCE

International Trade Administration

U.S. Department of Commerce Trade Finance Advisory Council

AGENCY: International Trade Administration, U.S. Department of Commerce.

ACTION: Notice of renewal of the U.S. Department of Commerce Trade Finance Advisory Council and solicitation of nominations for membership.

SUMMARY: Pursuant to provisions of the Federal Advisory Committee Act, as amended, the Department of Commerce (the Department) announces the renewal of the U.S. Department of Commerce Trade Finance Advisory Council. This advisory committee advises the Secretary on the development of strategies and programs that would help expand access to finance for U.S. exporters. The renewal of this federal advisory committee is necessary to provide input to the Secretary regarding the challenges faced by U.S. exporters in accessing capital, innovative solutions that can address these challenges, and recommendations on strategies that can expand access to finance and educate U.S. exporters on available resources. This notice also requests nominations for membership.

DATES: Nominations for members must be received on or before 5:00 p.m. Eastern Daylight Time (EDT) Monday, October 15, 2018. After that date, the Department will continue to accept applications under this notice for a period of up to two years from the deadline to fill any vacancies that may arise.

ADDRESSES: All nominations should be submitted by email to TFAC@trade.gov, attention: Ericka Ukrow, Office of Finance and Insurance Industries, U.S. Department of Commerce Trade Finance Advisory Council Executive Secretariat, Trade Finance Advisory Council.

FOR FURTHER INFORMATION CONTACT: Ericka Ukrow, Office of Finance and Insurance Industries, Room 18002, U.S. Department of Commerce, 1401 Constitution Avenue NW, Washington, DC 20230; telephone: (202) 482-0405, email: Ericka.Ukrow@trade.gov.

SUPPLEMENTARY INFORMATION:

I. Background and Authority

Pursuant to provisions of the Federal Advisory Committee Act, as amended, 5 U.S.C. App., the Department of Commerce announces the renewal of the U.S. Department of Commerce Trade Finance Advisory Council (TFAC). The TFAC advises the Secretary on matters related to access to finance for U.S. exporters.

The Department of Commerce, International Trade Administration, Office of Finance and Insurance Industries, is accepting nominations for membership on the TFAC. The TFAC functions solely as an advisory committee. The TFAC shall advise the Secretary in identifying effective ways to help expand access to finance for U.S. exporters, including small- and medium-sized enterprises (SMEs), and their foreign buyers.

The TFAC shall provide a forum to facilitate the discussion between a diverse group of stakeholders such as banks, non-bank financial institutions, other trade finance related organizations, and exporters to gain a better understanding regarding current challenges facing U.S. exporters in accessing capital.

The TFAC shall draw upon the experience of its members to identify how new technologies and other innovative solutions can expand access to trade finance for U.S. exporters.

The TFAC shall develop recommendations on programs or activities that the Department of Commerce could incorporate as part of its export promotion and trade finance education efforts.

The TFAC shall report to the Secretary on its activities and recommendations. In creating its reports, the TFAC shall: (1) Evaluate current credit conditions and specific financing challenges faced by U.S. exporters, including SMEs, and their foreign buyers, (2) identify emerging financing sources that would address these gaps, (3) examine how new financial technologies and other innovations could impact the availability and affordability of trade finance solutions, (4) highlight developments from international standard setting bodies that may affect the provision of trade finance, and (5) address any other noteworthy issues raised by stakeholders represented by the membership or the public.

II. Structure, Membership, and Operation

The TFAC shall consist of no more than twenty-five members appointed by the Secretary. Members may be drawn from:

• U.S. companies that are exporters of goods and services;

• U.S. commercial banks that provide trade finance products, cross-border

payment services, or foreign exchange solutions;

• Non-bank U.S. financial institutions that provide trade finance products, cross-border payment services, or foreign exchange solutions;

• Associations that represent: (a) U.S. exporters; and (b) U.S. commercial banks or non-bank financial institutions or other professionals that facilitate international trade transactions;

• U.S. companies or entities whose business includes trade-finance-related activities or services;

• U.S. scholars, academic institutions, or public policy organizations with expertise in global business, trade finance, and international banking related subjects; and

• Economic development organizations and other U.S. regional, state and local governmental and non-governmental organizations whose missions or activities include the analysis, provision, or facilitation of trade finance products/services.

Membership shall include a broad range of companies and organizations in terms of products and services, company size, and geographic location of both the source and destination of trade finance. Members will be selected based on their ability to carry out the objectives of the TFAC, in accordance with applicable Department of Commerce guidelines and in a manner that ensures that the TFAC is balanced in terms of points of view.

Members, with the exception of those that serve as experts from academia and public policy organizations, serve in a representative capacity and representing their own views and interests and those of their particular sector, not as special government employees. The members that serve as experts (rather than as representatives) from academia and public policy organizations are Special Government employees (SGEs), pursuant to 18 U.S.C. 202, are required to comply with certain ethics laws and rules, including filing a Confidential Financial Disclosure form. Additionally, a member serving as an expert must not be a Federally Registered Lobbyist. Prospective nominees should designate the capacity in which they are applying to serve and identify either their area of expertise or the U.S. industry sector they wish to represent. Each member shall be appointed for a term of two years and will serve at the pleasure of the Secretary. The Secretary may at his/her discretion reappoint any member to an additional term or terms, provided that the member proves to work effectively on the TFAC and his/her knowledge and advice is still needed.

In addition, the Chairman of the U.S. Export Import Bank (EXIM), and the Administrator of the Small Business Administration (SBA) (or their respective designees), will serve on the TFAC as ex officio, non-voting, members.

The members term of service will not exceed the duration of this charter and they may be reselected for additional periods should the charter be renewed and should they remain on the TFAC.

III. Compensation

Members will not be paid for their engagement in the performance of their duties as members of the Council. Members will not receive per diem and travel expenses.

IV. Nomination

The Department of Commerce will consider nominations of all qualified individuals to ensure that the TFAC includes representatives of the viewpoint areas of subject matter expertise noted above (see ”Structure, Membership and Operation”). Individuals may nominate themselves or a company, institution, trade association, or organization may nominate a qualified representative for membership on the TFAC.

Applications for immediate consideration must be received by 5:00 p.m. EDT Monday, October 15, 2018.

All applicants must submit the following:

1. Name and title of the individual requesting consideration.

2. The applicant's personal resume and short biography (less than 300 words).

3. A brief statement describing how the applicant will contribute to the work of the TFAC based on his/her unique experience and perspective (not to exceed 100 words).

4. All relevant contact information, including mailing address, fax, email, phone number, and support staff information where relevant.

5. An affirmative statement that the applicant meets all eligibility criteria, including an affirmative statement that the applicant is not required to register as a foreign agent under the Foreign Agents Registration Act of 1938, as amended.

6. For applicants to serve in a representative capacity, also submit:

a. A sponsor letter on the sponsoring entity's letterhead containing a brief statement of why the applicant should be considered for membership on the TFAC. This sponsor letter should also address the applicant's experience and leadership related to trade finance;

b. A brief description of the company, institution, trade association, or organization to be represented and its business activities and export market(s) served, if applicable;

c. Information regarding the ownership and control of the sponsoring entity, including the stock holdings as appropriate; and

d. The sponsoring entity's size (number of employees and annual sales), place of incorporation, product or service line, major markets in which the entity operates, and the entity's export or import experience.

7. For applicants to serve as experts (i.e., not in a representative capacity), also submit:

a. A statement that the applicant is not a Federally registered lobbyist and that the applicant understands that, if appointed, the applicant will not be allowed to continue to serve as a Committee member if the applicant becomes a Federally registered lobbyist.

Ericka A. Ukrow,
Sr. International Trade Specialist, Designated Federal Officer, TFAC, Office of Finance and Insurance Industries.

[FR Doc. 2018-18082 Filed 8-21-18; 8:45 am]

BILLING CODE 3510-DR-P